POSTAL SERVICE

39 CFR Part 233

Inspection Service Authority; Technical Correction

AGENCY: Postal Service™.

ACTION: Final rule.

SUMMARY: The U.S. Postal Service™ is amending its regulations governing mail covers so that they are consistent with current mail classification terminology.

DATES: This rule is effective December 11, 2023.

ADDRESSES: Questions on this action are welcome. Mail or deliver written comments to Postal Inspector in Charge, Office of Counsel, U.S. Postal Inspection Service, 475 L'Enfant Plaza SW, Room 3114, Washington, DC 20260-3100.

FOR FURTHER INFORMATION CONTACT: Louis DiRienzo, Postal Inspector in Charge, Office of Independent Counsel, U.S. Postal Inspection Service, 202-268-2705.

SUPPLEMENTARY INFORMATION: On May 22, 2023, the Postal Service™ published a final rule announcing changes to domestic competitive products. 88 FR 32824. Among the changes in that final rule are provisions expanding First-Class Package Service to subsume USPS Retail Ground and Parcel Select Ground, eliminating USPS Retail Ground and Parcel Select Ground as standalone products, renaming the expanded First-Class Package Service USPS Ground Advantage™, and further segregating the USPS Ground Advantage product into retail and commercial price categories. The Postal Service is accordingly updating its regulations to adjust the definitions of sealed and unsealed mail to incorporate these changes.

List of Subjects in 39 CFR Part 233

Administrative practice and procedure, Crime, Law enforcement, Penalties, Privacy.

For the reasons stated in the preamble, the Postal Service amends 39 CFR part 233 as follows:

PART 233—INSPECTION SERVICE AUTHORITY

1. The authority citation for 39 CFR part 233 continues to read as follows:

Authority: 39 U.S.C. 101, 102, 202, 204, 401, 402, 403, 404, 406, 410, 411, 1003, 3005(e)(1), 3012, 3017, 3018; 12 U.S.C. 3401-3422; 18 U.S.C. 981, 983, 1956, 1957, 2254, 3061; 21 U.S.C. 881; Pub. L. 101-410, 104 Stat. 890 (28 U.S.C. 2461 note); Pub. L. 104-208, 110 Stat. 3009; Secs. 106 and 108, Pub. L. 106-168, 113 Stat. 1806 (39 U.S.C. 3012, 3017); Pub. L. 114-74, 129 Stat. 584.

§ 233.3 [Amended]

2. In § 233.3(c)(3), add the words “USPS Ground Advantage™—Retail” immediately following “Priority Mail Express;” and immediately prior to “Outbound International Expedited Services (Priority Mail Express International; as well as Global Express Guaranteed items containing only documents);”

3. In § 233.3(c)(4), remove the words “First Class Package Service; USPS Retail Ground,” and add in their place the words “USPS Ground Advantage™—Commercial;”.

Sarah Sullivan,
Attorney, Ethics & Legal Compliance.

[FR Doc. 2023-26787 Filed 12-8-23; 8:45 am]

BILLING CODE 7710-12-P